DEPARTMENT OF COMMERCE

Foreign-Trade Zones Board

[Docket 19-2002]

Foreign-Trade Zone 135—Palm Beach, FL, Area; Application for Expansion

An application has been submitted to the Foreign-Trade Zones (FTZ) Board (the Board) by the Port of Palm Beach District, grantee of Foreign-Trade Zone 135, requesting authority to expand FTZ 135, in the Palm Beach, Florida, area, within the West Palm Beach Customs port of entry. The application was submitted pursuant to the provisions of the Foreign-Trade Zones Act, as amended (19 U.S.C. 81a-81u), and the regulations of the Board (15 CFR part 400). It was formally filed on April 11, 2002.

FTZ 135 was approved on March 16, 1987 (Board Order 348, 52 FR 9903, 3/27/87). On August 7, 2001 (Board Order 1184, 66 FR 42993, 8/16/01), the FTZ Board authorized the reissuance of the grant of authority for FTZ 209 to the Port of Palm Beach District, redesignating FTZ 209 as part of FTZ 135. The zone project currently consists of the original four sites of FTZ 135 and the three redesignated sites of former FTZ 209: Site 1 (25 acres)—within the Port of Palm Beach terminal area; Site 2 (37 acres)—industrial site at Interstate 95 and Highway 710, two miles west of the terminal; Site 3 (11 acres)—located at 700 Banyan Trail, Boca Raton; Site 4 (66 acres)—Martin County Airport, 1801 S.E. Airport Road, Stuart; Site 5 (24 acres, 3 sites)—Palm Beach International Airport and the North Palm Beach County Airport, Palm Beach; Site 6 (282 acres, 3 parcels)—North Palm Beach County Airport at Beeline Highway and Route 786; and, Site 7 (155,000 sq. ft.)—warehouse facility at 1440 West Indiantown Road, Jupiter.

The applicant is now requesting authority to expand the general-purpose zone to include an additional site (170 acres) in Palm Beach County: Proposed Site 8 (170 acres)—within the 1,247-acre Palm Beach Park of Commerce, on Beeline Highway (SR 710) near Pratt Whitney Road, Palm Beach. The site is owned by Palm Beach Property Investments, Ltd. and Williamsburg Partners, Inc. The project will be developed and operated by The Rockefeller Group, based on an agreement with Palm Beach Property Investments, Ltd. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099—14th Street NW, Washington, DC 20005; or

2. Submissions via the U.S. Postal Service: Foreign-Trade Zones Board, U.S. Department of Commerce, FCB—Suite 4100W, 1401 Constitution Avenue NW., Washington, DC 20230.

The closing period for their receipt is June 18, 2002. Rebuttal comments in response to material submitted during the foregoing period may be submitted during the subsequent 15-day period (to July 3, 2002).

A copy of the application and accompanying exhibits will be available for public inspection at the Office of the Foreign-Trade Zones Board's Executive Secretary at the first address listed above, and at the Port of Palm Beach District, One East 11th Street, Suite 400, Central Records, Riviera Beach, Florida 33409.

Dated: April 11, 2002.
Dennis Puccinelli,
Executive Secretary.

[FR Doc. 02-9662 Filed 4-18-02; 8:45 am]

BILLING CODE 3510-DS-P